DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than May 3, 2010.

Interested persons are invited to submit written comments regarding the subject matter of the investigations to the Director, Division of Trade Adjustment Assistance, at the address shown below, not later than May 3, 2010.

The petitions filed in this case are available for inspection at the Division of Trade Adjustment Assistance, Employment and Training Administration, U.S. Department of Labor, Room N-5428, 200 Constitution Avenue, NW., Washington, DC 20210.

Signed at Washington, DC, this 16th day of April 2010.
Elliott Kushner,
Certifying Officer, Division of Trade Adjustment Assistance.

Appendix
[TAA petitions instituted between 3/29/10 and 4/2/10]
TA-W | Subject firm (petitioners) | Location | Date of institution | Date of petition
73796 | TIAA-CREF (State/One-Stop) | Denver, CO | 03/29/10 | 03/26/10
73797 | Outotech (USA), Inc. (State/One-Stop) | Centennial, CO | 03/29/10 | 03/26/10
73798 | CompuCredit (Workers) | Wilkesboro, NC | 03/29/10 | 03/25/10
73799 | Appleseed's Inc. (Company) | Beverly, MA | 03/29/10 | 03/16/10
73800 | Sensata Technologies (Company) | Attleboro, MA | 03/29/10 | 03/24/10
73801 | Diebold, Inc. (Company) | North Canton, OH | 03/29/10 | 03/19/10
73802 | JD Irving Woodland, LLC (Workers) | Fort Kent, ME | 03/29/10 | 03/15/10
73803 | Hewlett Packard Company (State/One-Stop) | Syracuse, NY | 03/29/10 | 03/25/10
73804 | IBM Corporation (State/One-Stop) | San Ramon, CA | 03/29/10 | 03/24/10
73805 | Henkel Corporation (Company) | Billerica, MA | 03/29/10 | 03/23/10
73806 | Multina, USA (Company) | Plattsburgh, NY | 03/29/10 | 03/18/10
73807 | Keane, Inc. (State/One-Stop) | Boston, MA | 03/30/10 | 03/26/10
73808 | Maersk Line Agency (Company) | Madison, NJ | 03/30/10 | 01/12/10
73809 | Hewlett Packard/EDS (Workers) | Cupertino, CA | 03/30/10 | 03/19/10
73810 | Gaming Partners International, USA (Company) | Las Vegas, NV | 03/30/10 | 03/25/10
73811 | Schrupp Industries, Inc. (Workers) | Packer, PA | 03/30/10 | 03/26/10
73812 | Johnson Controls, Inc. (Workers) | Rockwood, MI | 03/30/10 | 03/16/10
73813 | Fortis Plastics, LLC (Workers) | Henderson, KY | 03/30/10 | 03/22/10
73814 | Vought Aircraft (Union) | Grand Prairie, TX | 03/30/10 | 03/26/10
73815 | Colfax Envelope Corporation (Workers) | Buffalo Grove, IL | 03/30/10 | 03/15/10
73816 | IUE-CWA Local Union 808 (Union) | Evansville, IN | 03/30/10 | 03/24/10
73817 | Meridian Autosystems (Workers) | Detroit, MI | 03/31/10 | 02/01/10
73818 | EI Detection & Imaging Systems (Workers) | Saxonburg, PA | 03/31/10 | 03/26/10
73819 | KGP Telecommunications (Workers) | South Bend, IN | 03/31/10 | 03/03/10
73820 | Adrenaline Sporting Goods, LLC (State/One-Stop) | Sherwood, OR | 03/31/10 | 03/02/10
73821 | Shaw Diversified (State/One-Stop) | Algona, WA | 03/31/10 | 03/26/10
73822 | Ingersoll Rand (Company) | Athens, PA | 03/31/10 | 03/29/10
73823 | Demag Cranes & Components (Union) | Cleveland, OH | 03/31/10 | 02/08/10
73824 | Honeywell Safety Products (Company) | Rock Island, IL | 03/31/10 | 03/29/10
73825 | Steel Fabricators of Monroe, LLC (Company) | Monroe, LA | 04/01/10 | 03/30/10
73826 | Kincaid, Inc. (Company) | Athens, TN | 04/01/10 | 03/31/10
73827 | Architectural Glazing Technologies (Company) | Sanford, ME | 04/01/10 | 03/30/10
73828 | GKN Axles Jackson Center (Workers) | Jackson Center, OH | 04/01/10 | 03/31/10
73829 | Suncor Energy (State/One-Stop) | Greenwood Village, CO | 04/01/10 | 03/11/10
73830 | CMC Markets (US), LLC (State/One-Stop) | New York, NY | 04/02/10 | 04/01/10
73831 | StarTek (Workers) | Greeley, CO | 04/02/10 | 03/31/10
73832 | Intuit (State/One-Stop) | Tucson, AZ | 04/02/10 | 04/01/10
73833 | VF Jeanswear (Union) | Holly Pond, AL | 04/02/10 | 04/01/10
73834 | William B. Altman, Inc. (Company) | Fenelton, PA | 04/02/10 | 04/01/10
73835 | The Hartford Insurance Company (Workers) | Syracuse, NY | 04/02/10 | 03/31/10
73836 | Domtar Paper Company (Company) | Columbus, MS | 04/02/10 | 03/30/10
73837 | B. Braun Medical, Inc. (Company) | Atlanta, GA | 04/02/10 | 04/01/10
73838 | Entree Alaska (Company) | Langley, WA | 04/02/10 | 03/30/10
73839 | Duthler Ford Truck, Inc. (Company) | Wyoming, MI | 04/02/10 | 03/25/10
73840 | Lochmoor Chrysler Jeep (Workers) | Detroit, MI | 04/02/10 | 03/14/10
73841 | HSBC Pay Services, Inc. (Local Branch) (State/One-Stop) | Dayton, OH | 04/02/10 | 03/26/10
73842 | Bank of America (Workers) | Addision, TX | 04/02/10 | 03/19/10

[FR Doc. 2010-9481 Filed 4-22-10; 8:45 am]

BILLING CODE 4510-FN-P